OFFICE OF MANAGEMENT AND BUDGET

Office of Federal Procurement Policy

48 CFR Part 9904

Cost Accounting Standards: Harmonization of Cost Accounting Standards 412 and 413 With the Pension Protection Act of 2006

AGENCY: Office of Management and Budget, Office of Federal Procurement Policy

ACTION: Notice of extension of public comment period.

SUMMARY: The Office of Federal Procurement Policy (OFPP), Cost Accounting Standards Board (Board), is today announcing an extension of time to submit public comments regarding the Advance Notice of Proposed Rulemaking (ANPRM) (73 FR 51261, September 2, 2008) on the harmonization of Cost Accounting Standards (CAS) 412 and 413 with the Pension Protection Act (PPA) of 2006 (Pub. L. 109-280, 120 Stat.780). Many of the public comments received as of November 3, 2008 noted that the ANPRM addressed complex and technical accounting issues. Some of the commenters noted that they were still actively performing actuarial modeling of the ANPRM and alternative approaches. These commenters asked that the Board consider promulgating a second ANPRM or accepting public comments submitted after the original due date of November 3, 2008. Because the Final Rule must be published within the statutory time requirements of Section 106 of the PPA, the Board is concerned that the promulgation of a second ANPRM might not be feasible. Therefore to permit fuller consideration of the continuing efforts by the public, and to mitigate the need for a second ANPRM, the Board is extending the comment period to the date specified below.

Public comments already received in response to the ANPRM are available in their entirety at http://www.whitehouse.gov/omb/procurement/index_casb.htm and at http://www.regulations.gov.

DATES: Comments must be in writing and must be received by December 15, 2008.

ADDRESSES: The full text of the Advance Notice of Proposed Rulemaking, including the Board's response to public comments on the Staff Discussion Paper and the draft proposed amendments to Cost Accounting Standards 412 and 413, is available at: http://www.regulations.gov and http://www.whitehouse.gov/omb/procurement/index_casb.html.

All comments to this Advance Notice of Proposed Rulemaking must be in writing. Due to delays in the receipt and processing of mail, respondents are strongly encouraged to submit comments electronically to ensure timely receipt. Electronic comments may be submitted in any one of three ways:

1. Comments may be directly sent via http://www.regulations.gov—a Federal E-Government Web site that allows the public to find, review, and submit comments on documents that agencies have published in the Federal Register and that are open for comment. Simply type “CAS Pension Harmonization ANPRM” (without quotes) in the Comment or Submission search box, click Go, and follow the instructions for submitting comments;

2. Comments may be included in an e-mail message sent to casb2@omb.eop.gov. The comments may be submitted in the text of the e-mail message or as an attachment; or

3. Comments may also be submitted via facsimile to (202) 395-5105.

Be sure to include your name, title, organization, postal address, telephone number, and e-mail address in the text of your public comment and reference “CAS Pension Harmonization ANPRM” in the subject line. Comments received by the date specified below will be included as part of the official record.

Please note that all public comments received will be available in their entirety at http://www.whitehouse.gov/omb/procurement/index_casb.html and http://www.regulations.gov shortly after their receipt.

FOR FURTHER INFORMATION CONTACT: Eric Shipley, Project Director, Cost Accounting Standards Board (telephone: 410-786-6381, e-mail: Eric.Shipley@cms.hhs.gov).

Lesley A. Field,
Acting Chairperson, Cost Accounting Standards Board.

[FR Doc. E8-28043 Filed 11-25-08; 8:45 am]

BILLING CODE 3110-01-P